DEPARTMENT OF THE INTERIOR

Fish and Wildlife Service

Federal Grant Use by the Wisconsin Department of Natural Resources

AGENCY: Fish and Wildlife Service, Interior, lead; Wisconsin Department of Natural Resources, cooperating.

ACTION: Notice of intent.

SUMMARY: This notice advises the public that the U.S. Fish and Wildlife Service (Service) intends to conduct a 30-day scoping period to solicit public comments for a National Environmental Policy Act (NEPA) decision on whether to continue awards for two Federal grants which are funded under the comprehensive management plan (CMP) grant option, as described in the Federal Aid in Wildlife Restoration Act (WR) and Federal Aid in Sport Fish Restoration Act (SFR) (16 U.S.C. 669 et. seq. and 16 U.S.C. 777 et. seq.), and the cumulative effects of activities that are funded under the Federal grants.

Comments are being sought in order to decide whether to prepare an Environmental Assessment or to utilize a categorical exclusion. The primary focus for this review is to address statewide cumulative and secondary effects of activities conducted by the WDNR that are funded under WR Grant Number W-160-P and SFR Grant Number F-95-P and administered by the Service's Region 3 Federal Aid Division. A secondary focus is to address the processes used by the WDNR to select and complete those activities. Each individual project, or group of projects, will continue to receive site specific NEPA review when it is submitted for funding. Therefore the scope of this review is broad and directed at impacts that may not be detected with individual projects along with consideration of the overall planning system utilized by WDNR. Comments on site specific projects are not within the scope of this review, although comments regarding the effects of different types of projects would be appropriate. The Service may choose to analyze the impacts of the two Federal grants separately because their intended purposes are different. The Service is using this scoping notification as it considers approving continuation of the CMP option for the next five years.

Administration of these grants uses management systems identified in the Grant Proposal consistent with a Fish, Wildlife and Habitat Plan that generally identifies fish and wildlife program direction in Wisconsin and types of activities that may constitute projects subject to an annual application for funds process. The comprehensive management system is described in the Grant Proposal which includes a description of the WDNR strategic planning process, operational planning process and their control/evaluation process. This notice is being furnished as provided for by the NEPA regulations (40 CFR 1501.7 and 1508.22). The intent of this notice is to obtain suggestions and additional information from other agencies and the public on the scope of issues to be considered. Comments and participation in this scoping process are solicited.

DATES: Written comments should be received on or before September 14, 2001.

Public Involvement: The public is invited to participate in the scoping process. Written scoping comments should be received within 30 days from the date of publication of this Notice of Intent. All comments received from individuals become part of the official public record. Requests for such comments will be handled in accordance with the Freedom of Information Act and the Council on Environmental Quality's NEPA regulations [40 CFR 1506.6(f)]. Our practice is to make comments, including names and home addresses of respondents, available for public review during regular business hours. Individual respondents may request that we withhold their home address from the record, which we will honor to the extent allowable by law. If a respondent would like us to withhold his/her name and/or address, this must be stated prominently at the beginning of the comment.

ADDRESSES: Comments should be addressed to: Scoping Comments, U.S. Fish and Wildlife Service, Division of Federal Aid, Bishop Henry Whipple Federal Building, 1 Federal Drive, Fort Snelling, MN 55111; telephone: (612) 713-5130. Electronic mail comments may also be submitted within the comment period to: wdnrgrants@fws.gov

FOR FURTHER INFORMATION CONTACT: Michael Sweet (Sport Fish Restoration) or Fabian Romero, (Wildlife Restoration, Wildlife Conservation and Restoration) U.S. Fish and Wildlife Service, Federal Aid Division, 1 Federal Drive, Fort Snelling, MN 55111; telephone: (612) 713-5130.

SUPPLEMENTARY INFORMATION: The WDNR has utilized SFR and WR funds since Congress enacted the programs in 1956 and 1937, respectively. This will be the first year that WDNR will use Wildlife Conservation and Restoration (WCR) funds which Congress approved for a one-year period during the Federal fiscal year beginning October 1, 2000. The public is requested to inform the Service of concerns regarding the WDNR management systems, their administration of the comprehensive management system grants in Wisconsin, and the cumulative effects of activities funded under these Federal grants.

The WDNR has administered its SFR grant program using the CMP option for the past 16 years and WR grant program using the CMP option for the past 11 years. WDNR began administering the WCR grant program using the CMP option July 1, 2001. During the past 16 years the WDNR conducted numerous public information and input processes, as well as Service review regarding its programs, including: the development and periodic revision of a Strategic Plan; development of a Fisheries, Wildlife and Habitat Management Plan for Wisconsin; numerous basin, area, waterbody, and property master plans; use of biennial work planning processes; program and management reviews; financial audits and periodic field reviews conducted jointly by WDNR and Service staff regarding implementation of the CMP.

Some projects that will be subject to NEPA review as part of the annual grant process will be conducted on lands that might be eligible for listing on the National Register of Historic Places. The National Historic Preservation Act and other laws require that these properties and resources be identified and considered in project planning. The public is requested to inform the Service of concerns about archeological sites, buildings and structures, historic events, sacred and traditional areas, and other historic preservation concerns.

Dated: August 1, 2001.
Charlie M. Wooley,
Assistant Regional Director, Ecological Services, Region 3, Fort Snelling, MN.

[FR Doc. 01-20479 Filed 8-14-01; 8:45 am]

BILLING CODE 4310-55-P